DEPARTMENT OF DEFENSE

Department of the Navy

Notice of Performance Review Board Membership

AGENCY: Department of the Navy, DOD.

ACTION: Notice.

SUMMARY: Pursuant to 5 U.S.C. 4314(c)(4), the Department of the Navy (DON) announces the appointment of members to the DON's numerous Senior Executive Service (SES) Performance Review Boards (PRBs). The purpose of the PRBs is to provide fair and impartial review of the annual SES performance appraisal prepared by the senior executive's immediate and second level supervisor; to make recommendations to appointing officials regarding acceptance or modification of the performance rating; and to make recommendations for monetary performance awards. Composition of the specific PRBs will be determined on an ad hoc basis from among individuals listed below:

ACKLEY, V.H. MR.

ADAMS, P.C. MS.

AKIN, M.G. MR.

ANTOINE, C.S. MR.

ARNY, L.W. MR.

AVILES, D.M. HON.

BALDERSON, W.M. MR.

BARBER, A.H. MR.

BARNUM, H.C. MR.

BAUMAN, D.M. MR.

BEALL, V.R. MS.

BELAND, R.W. DR.

BETRO, T.A. MR.

BEVINS, S.E. MR.

BLAIR, A.K. MS.

BLINCOE, R.J. MR.

BONIN, R.L. MR.

BONWICH, S.M. MR.

BRANT, D.L. MR.

BRAGG, L.N. MR.

BREEDLOVE, W.J. DR.

BROWN, P.F. MR.

BURNS, J. RADM

CALI, R.T. MR.

CAREY, R.J. MR.

CARPENTER, A. MS.

CATRAMBONE, G.P. MR.

CHURCH III, A.T. VADM

CIESLAK, R.C. MR.

CLARK, C.A. MS.

COCHRANE JR., E.R. MR.

COHEN, J.M. RADM

COHN, H. MR.

COOK, C.E. MR.

COX, A.D. MR.

CRABTREE, T.R. MR.

CREEDON, C.G. MR.

CUDDY, J.V. MR.

CURTIS, D.I. MR.

DAVIS, A.R. MS.

DECKER, J. MS.

DECKER, M.H. MR.

DEEGAN, C.S. MR.

DEWITTE, C.K. MS.

DONAHUE, P.E. MR.

DOWD, T.K. MR.

DUDLEY, W.S. DR.

DUNN, S.C. MR.

EARL, R.L. MR.

EASTER, S.B. MS.

EASTON, M.E. MR.

EDMOND, D.J. MS.

EHRLER, S.M. MR.

ELLIS, W.G. MR.

ENGELHARDT, B.B. RADM

ENNIS, M. BGEN

ESSIG, T.W. MR.

EVANS, G.L. MS.

EXLEY, R.L. MR.

FILIPPI, D.M. MS.

FLYNN, B.P. MS.

FRANKLIN, R.E. MR.

GIACCHI, C.A. MR.

GLAS, R.A. MR.

GREER, E.R. MR.

GRIFFIN JR., R.M. MR.

GOUGH, E.C. MR.

HAGEDORN, G.D. MR.

HAMILTON, C. RADM

HANDEL, T.H. MR.

HANNAH, B.W. DR.

HANSON, H.V. MR.

HAYNES, R.S. MR.

HEELY, T. RADM

HILDEBRANDT, A.H. MR.

HOBART, R.L. MR.

HOEWING, G.L. RADM

HOGUE, R.D. MR.

HONECKER, M.W. MR.

HOWARD, J.S. MR.

HUBBELL, P.C. MR.

HUGHES, J.T. MS.

JAGGARD, M.F. MR.

JAMES, J.H. MR.

JIMENEZ, F.R. MR.

JOHNSON, H.T. HON

JOHNSTON, B. RADM

JOHNSTON JR., C.H. RADM

JOHNSTON, K.J. DR.

JUNKER, B.R. DR.

KAMP, J. CAPT

KASKIN, J.D. MR.

KEEN, S.L. MS.

KEENEY, C.A. MS.

KELSEY, H.D. MR.

KLEIN, J.A. MR.

KLEINTOP, M.U. MS.

KLEMM, W.R. RADM

KOWBA, W.R. RADML

KRASIK, S.A. MS.

KRUM, R.A. MR.

KUNESH, N.J. MR.

LA RAIA, J.H. MR.

LAUX, T.E. MR.

LEACH, R.A. MR.

LEDVINA, T.N. MR.

LEGGIERI, S.R. MS.

LENGERICH, A.W. RADM

LEWIS, R.D. MS.

LIBERATORE, C. MS.

LOFTUS, J.V. MS.

LONG, L.A. MS.

LOWELL, P.M. MR.

MAGLICH, M.F. MR.

MAGNUS, R. LTGEN

MARSHALL, J.B. MR.

MASCIARELLI, J.R. MR.

MATTHEIS, W.G. MR.

McDONNELL, T.E. MR.

McERLEAN, D.P. DR.

McGRATH, M.F. MR.

McLAUGHLIN, P.M. MR.

McNAIR, J.W. MR.

MEADOWS, L.J. MS.

McNAMARA, R.R. MR.

MEEKS JR., A.W. DR.

MELCHER, G.K. MR.

MELOY, K.E. MS.

MILLER, K.E. MR.

MOHLER, M.K. MR.

MOLZAHN, W.R. MR.

MONTGOMERY, J.A. DR.

MOORE, S.B. MR.

MORA, A.J. HON

MURPHY, P.M. MR.

MURPHY, R.E. MR.

MUTH, C.C. MS.

NAVAS JR., W.A. HON.

NEWSOME, L.D. RADM

NEWTON, L.A. MS.

ORNER, J.G. MR.

PANEK, R.L. MR.

PARKS, G.L. LTGEN

PERSONS, B.J. MR.

PHELPS, F.A. MR.

PIC, J.E. MR.

PIVIROTTO, R.R. MR.

PLUNKETT, B.J. MR.

POLZIN, J.E. MR.

RANDALL, S.R. MR.

RAPS, S.P. MS.

REEVES, C.R. MR.

RHODES, M.L. MR.

ROARK JR., J.E. MR.

ROBY, C. MS.

RODERICK, B.A. MR.

RODRIGUEZ, W.D. RADML(SEL)

ROGERS, L.F. MR.

ROSENTHAL, R.J. MR

RYZEWIC, W.H. MR.

SANDEL, E.A. MS.

SANDERS, D. MR.

SAUL, E.L. MR.

SCHAEFER, J.C. MR.

SCHREGARDUS, D.R. MR.

SCHUBERT, D. CAPT

SCHUSTER, J.G. MR.

SCOVEL, G.A. MR.

SHEPHARD, M.R. MS.

SHOUP, F.E. DR.

SIEL, C.R. MR.

SIMON, E.A. MR.

SLOCUM, W. MR.

SMITH, R.F. MR.

SMITH, R.M. MR.

SOMOROFF, A.R. DR.

STEFFEE, D.P. MR.

STELLOH-GARNER, C. MS.

STILLER, A.F. MS.

SULLIVAN, P.E. RADM

TAMBURRINO, P.M. MR.

TARRANT, N.J. MS.

TESCH, T.G. MR.

THOMSEN, J.E. MR.

THROCKMORTON JR., E.L. MR.

TOWNSEND, D.K. MS.

TULLAR, E.W. MR.

WALDHAUSER, T.D. BGEN

WARD, J.D. MR.

WENNERGREN, D.M. MR.

WEYMAN, A.S. MR.

WHITON, H.W. RADM

WHITTEMORE, A. MS.

WILLIAMS, G.P. MR.

WINOKUR, R.S. MR.

WRIGHT JR., J.W. DR.

YOUNG, C. RADM

YOUNG JR., J.J. HON.

ZEMAN, A.R. DR.

FOR FURTHER INFORMATION CONTACT: Ms. Carmen Arrowood, Office of Civilian Human Resources, telephone (202) 685-6668.

Dated: July 23, 2004.
J.H. Wagshul,
Commander, Judge Advocate General's Corps, U.S. Navy, Federal Register Liaison Officer.

[FR Doc. 04-17693 Filed 8-3-04; 8:45 am]

BILLING CODE 3810-FF-P